DEPARTMENT OF COMMERCE

National Oceanic and Atmospheric Administration

RIN 6048-XW87

Endangered and Threatened Species; Take of Anadromous Fish

AGENCY: NOAA's National Marine Fisheries Service (NMFS), National Oceanic and Atmospheric Administration (NOAA), U. S. Department of Commerce.

ACTION: Issuance of an enhancement permit.

SUMMARY: Notice is hereby given that NMFS has issued scientific research Permit 14268 to Thomas R. Payne and Associates (TRPA) in Arcata, CA.

ADDRESSES: The permit application, the permit, and related documents are available for review, by appointment, at the foregoing address at: Protected Resources Division, NMFS, 501 W. Ocean Blvd., Suite 4200, Long Beach, CA 90802 (ph: 562-980-4026, fax: 562-980-4027, e-mail at: matthew.mcGoogan@noaa.gov. The permit application is also available for review online at the Authorizations and Permits for Protected Species website at https://apps.nmfs.noaa.gov.

FOR FURTHER INFORMATION CONTACT: Matt McGoogan at 562-980-4026, or e-mail: matthew.mcGoogan@noaa.gov.

SUPPLEMENTARY INFORMATION:

Authority

The issuance of permits, as required by the Endangered Species Act of 1973 (16 U.S.C. 1531-1543) (ESA), is based on a finding that such permits/modifications: (1) are applied for in good faith; (2) would not operate to the disadvantage of the listed species which are the subject of the permits; and, (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to the federally endangered Southern California Distinct Population Segment of steelhead (Oncorhynchus mykiss).

Permits Issued

A notice of the receipt of an application for Permit 14268 was published in the Federal Register on June 17, 2009 (74 FR 28666). Permit 14268 was issued to TRPA on April 27, 2010. Permit 14268 authorizes TRPA to conduct a scientific study with endangered Southern California (SC) Distinct Population Segment (DPS) steelhead (Oncorhynchus mykiss) in the Ventura River. The purpose of this study is to use monitoring and sampling methods to gather information that will contribute to the understanding of abundance and distribution of juvenile steelhead in various portions of the Ventura River watershed. Information obtained by this study is anticipated to help support restoration efforts for the endangered SC DPS of steelhead. Permit 14268 authorizes the use of direct underwater observation techniques and electrofishing under certain specified instances as methods to assist in estimating abundance and distribution of steelhead. Electrofishing will be conducted only by qualified individuals and according to NMFS' electrofishing guidelines. See the permit application for a complete project description including tables and figures.

Permit 14268 authorizes TRPA an annual non-lethal take of up to 600 juvenile steelhead. No intentional lethal take has been authorized for this permit. The authorized unintentional lethal take (mortalities) that may occur during research activities is up to 30 juvenile steelhead per year. All mortalities will be sent to NMFS Protected Resource Division in Long Beach, CA for genetic research and processing. Field activities authorized by Permit 14268 will begin in July 2010 and in successive years will be conducted between March 1st and September 30th. Permit 14268 expires on December 31, 2014.

Dated: June 7, 2010.
Angela Somma,
Chief, Endangered Species Division, Office of Protected Resources, National Marine Fisheries Service.

[FR Doc. 2010-14078 Filed 6-10-10; 8:45 am]

BILLING CODE 3510-22-S